DEPARTMENT OF HEALTH AND HUMAN SERVICES

Centers for Disease Control and Prevention

Advisory Board on Radiation and Worker Health, National Institute for Occupational Safety and Health; Correction

AGENCY: Centers for Disease Control and Prevention, Department of Health and Human Services (HHS).

ACTION: Notice; correction.

SUMMARY: Notice is hereby given of a change in the meeting of the Advisory Board on Radiation and Worker Health, National Institute for Occupational Safety and Health (ABRWH); April 17, 2024, 9:15 a.m. to 6 p.m. EDT, teleconference/web conference, in the original Federal Register notice. The meeting notice was published in the Federal Register on March 4, 2024 and is being corrected to change the executive order number in Supplementary Information.

FOR FURTHER INFORMATION CONTACT: Rashaun Roberts, Ph.D., Designated Federal Officer, National Institute for Occupational Safety and Health, Centers for Disease Control and Prevention, 1090 Tusculum Avenue, Mailstop C-24, Cincinnati, Ohio 45226, Telephone (513) 533-6800, Toll Free 1(800) CDC-INFO, Email: ocas@cdc.gov.

SUPPLEMENTARY INFORMATION: In the Federal Register of March 4, 2024, in FR Doc. 2024-04431 at 89 FR 15580, in the third column, correct the Supplementary Information caption to read:

Background: The Advisory Board was established under the Energy Employees Occupational Illness Compensation Program Act of 2000 to advise the President on a variety of policy and technical functions required to implement and effectively manage the new compensation program. Key functions of the Advisory Board include providing advice on the development of probability of causation guidelines that have been promulgated by the Department of Health and Human Services (HHS) as a final rule, advice on methods of dose reconstruction which have also been promulgated by HHS as a final rule, advice on the scientific validity and quality of dose estimation and reconstruction efforts being performed for purposes of the compensation program, and advice on petitions to add classes of workers to the Special Exposure Cohort (SEC). In December 2000, the President delegated responsibility for funding, staffing, and operating the Advisory Board to HHS, which subsequently delegated this authority to the CDC. NIOSH implements this responsibility for CDC.

The charter was issued on August 3, 2001, renewed at appropriate intervals, and rechartered under Executive Order 14109 on September 29, 2023. Unless continued by the President the Board will terminate on September 30, 2025, consistent with E.O. 14109 of September 29, 2023.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-10830 Filed 5-16-24; 8:45 am]

BILLING CODE 4163-18-P